JUDICIAL CONFERENCE OF THE UNITED STATES

Meeting of the Judicial Conference Committee on Rules of Practice and Procedure

AGENCY: Judicial Conference of the United States, Advisory Committee on Rules of Criminal Procedure.

ACTION: Revised Notice of Open Meeting.

SUMMARY: The March 16-17, 2015 meeting of the Advisory Committee on Rules of Criminal Procedure previously scheduled at the Florida A&M University College of Law, will now be held at the United States Courthouse, 401 West Central Boulevard, Orlando, Florida 32801. The announcement for this meeting was previously published in 80FR 4592.

FOR FURTHER INFORMATION CONTACT: Rules Committee Support Office, Administrative Office of the United States Courts, Thurgood Marshall Federal Judiciary Building, One Columbus Circle NE., Suite 7-240, Washington, DC 20544, Telephone (202) 502-1820.

Dated: February 19, 2015.
Julie Wilson,
Attorney Advisor, Rules Committee Support Office.

[FR Doc. 2015-03724 Filed 2-23-15; 8:45 am]

BILLING CODE 2210-55-P